DEPARTMENT OF THE INTERIOR

National Park Service

[NPS-WASO-NAGPRA-NPS0040079; PPWOCRADN0-PCU00RP14.R50000]

Notice of Inventory Completion: University of Illinois Urbana-Champaign, Champaign, IL

AGENCY: National Park Service, Interior.

ACTION: Notice.

SUMMARY: In accordance with the Native American Graves Protection and Repatriation Act (NAGPRA), the University of Illinois Urbana-Champaign has completed an inventory of human remains and has determined that there is a cultural affiliation between the human remains and Indian Tribes or Native Hawaiian organizations in this notice.

DATES: Repatriation of the human remains in this notice may occur on or after June 9, 2025.

ADDRESSES: Krystiana Krupa, University of Illinois Urbana-Champaign, 601 E. John Street, Champaign, IL 61820, telephone (217) 244-2587, email klkrupa@illinois.edu.

SUPPLEMENTARY INFORMATION: This notice is published as part of the National Park Service's administrative responsibilities under NAGPRA. The determinations in this notice are the sole responsibility of the University of Illinois Urbana-Champaign, and additional information on the determinations in this notice, including the results of consultation, can be found in its inventory or related records. The National Park Service is not responsible for the determinations in this notice.

Abstract of Information Available

Human remains representing, at least, two individuals have been identified. No associated funerary objects are present. The Conway site (45Sk59), a shell midden located in the Skagit River delta, was excavated as part of salvage projects by the University of Washington in 1969 and 1970. Based on University records, it is unclear how the individuals described in this Notice came to arrive at the University of Illinois Urbana-Champaign. University personnel are not aware of any potentially hazardous substances used to treat any of the human remains or associated funerary objects.

Cultural Affiliation

Based on the information available and the results of consultation, cultural affiliation is reasonably identified by the geographical location or acquisition history of the human remains described in this notice.

Determinations

The University of Illinois Urbana-Champaign has determined that:

• The human remains described in this notice represent the physical remains of two individuals of Native American ancestry.

• There is a connection between the human remains described in this notice and the Stillaguamish Tribe of Indians of Washington; Swinomish Indian Tribal Community; Tulalip Tribes of Washington; and the Upper Skagit Indian Tribe.

Requests for Repatriation

Written requests for repatriation of the human remains in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains described in this notice to a requestor may occur on or after June 9, 2025. If competing requests for repatriation are received, the University of Illinois Urbana-Champaign must determine the most appropriate requestor prior to repatriation. Requests for joint repatriation of the human remains are considered a single request and not competing requests. The University of Illinois Urbana-Champaign is responsible for sending a copy of this notice to the Indian Tribes and Native Hawaiian organizations identified in this notice.

Authority: Native American Graves Protection and Repatriation Act, 25 U.S.C. 3003, and the implementing regulations, 43 CFR 10.10.

Dated: April 22, 2025.
Melanie O'Brien,
Manager, National NAGPRA Program.

[FR Doc. 2025-08029 Filed 5-7-25; 8:45 am]

BILLING CODE 4312-52-P